ENVIRONMENTAL PROTECTION AGENCY

[ER-FRL-9029-1]

Environmental Impact Statements; Notice of Availability

Responsible Agency: Office of Federal Activities, General Information (202) 564-7146 or http://www.epa.gov/nepa.

Weekly receipt of Environmental Impact Statements (EISs)

Filed 09/05/2016 Through 09/09/2016

Pursuant to 40 CFR 1506.9.

Notice: Section 309(a) of the Clean Air Act requires that EPA make public its comments on EISs issued by other Federal agencies. EPA's comment letters on EISs are available at: http://www.epa.gov/compliance/nepa/eisdata.html.

EIS No. 20160206, Final, AFS, CA, Los Padres Tamarisk Removal, Review Period Ends: 10/26/2016, Contact: Kyle Kinports 805-961-5710.

EIS No. 20160207, Final, USACE, NY, South Shore of Staten Island Coastal Storm Risk Management, Review Period Ends: 10/17/2016, Contact: Catherine J. Alcoba 917-790-8216.

EIS No. 20160208, Final Supplement, BOEM, LA, Gulf of Mexico OCS Oil and Gas Lease Sale: 2017 Central Planning Area Lease Sale 247 Review Period Ends: 10/17/2016, Contact: Gary Goeke 504-736ndash;3233.

EIS No. 20160209, Draft, DOC, AZ, Programmatic—West Region of the Nationwide Public Safety Broadband Network, Comment Period Ends: 11/15/2016, Contact: Genevieve Walker 571-665-6134.

EIS No. 20160210, Final, USFS, CA Lassen National Forest Over-Snow Vehicle (OSV) Use Designation, Review Period Ends: 10/17/2016, Contact: Christopher O'Brien 530-262-6698.

Amended Notices

EIS No. 20160176, Draft, USACE, NY, Fire Island Inlet to Montauk Point, New York Combined Beach Erosion Control and Hurricane Protection Project, Comment Period Ends: 10/19/2016, Contact: Robert Smith 917-790-8729.

Revision to FR Notice published 07/29/2016; extending comment period from 09/29/2016 to 10/19/2016.

Dated: September 13, 2016.
Dawn Roberts,
Management Analyst, NEPA Compliance Division, Office of Federal Activities.

[FR Doc. 2016-22362 Filed 9-15-16; 8:45 am]

BILLING CODE 6560-50-P